DEPARTMENT OF COMMERCE

Economic Development Administration

[Docket No.: 0810151367-81368-01]

Solicitation of Applications for the National Technical Assistance, Training, Research and Evaluation Program: Economic Development Research Project: Regional Innovation Systems

AGENCY: Economic Development Administration (EDA), Department of Commerce.

ACTION: Notice to extend application closing date.

SUMMARY: The Economic Development Administration (EDA) publishes this notice to extend the closing date for the submission of applications for a regional innovation systems research project under FY 2009 National Technical Assistance, Training, Research and Evaluation program (NTA Program) funding.

DATES: The new closing date and time for receipt of electronic and paper applications for funding a regional innovation systems research project under FY 2009 NTA Program funding is Monday, December 1, 2008, at 5 p.m. Eastern Time.

ADDRESSES: Applications may be submitted in two formats: (i) In paper format at the addresses provided below; or (ii) electronically in accordance with the procedures provided on http://www.Grants.gov or via e-mail. The content of the application is the same for paper submissions as it is for electronic submissions. EDA will not accept facsimile transmissions of applications.

Paper Submissions: Applicants should submit paper submissions (via postal mail, overnight delivery or hand-delivery) to: FY 2009 Economic Development Research Project Competition: Regional Innovation Systems, Kerstin Millius, Program Analyst, Economic Development Administration, U.S. Department of Commerce, 1401 Constitution Avenue, NW., Room 7009, Washington, DC 20230.

Applicants are advised that, due to mail security measures, EDA's receipt of mail sent via the United States Postal Service may be substantially delayed or suspended in delivery. Applicants may wish to use a guaranteed overnight delivery service.

Electronic Submissions: Applicants may submit completed applications electronically in accordance with the instructions provided at http://www.Grants.gov. On http://www.grants.gov/search/basic.do, applicants can perform a “Basic Search” for this grant opportunity by completing the “Keyword Search;” the “Search by Funding Opportunity Number;” or the “Search by CFDA Number” field, and then clicking the “Search” button. The Funding Opportunity Number for this grant opportunity is EDA10312008RESEARCH and the CFDA number is 11.312.

EDA strongly encourages that applicants not wait until the application closing date to begin the application process through http://www.Grants.gov.

Applicants should access the following link for assistance in navigating http://www.Grants.gov and for a list of useful resources: http://www.grants.gov/applicants/applicant_help.jsp. If you do not find an answer to your question under Frequently Asked Questions, try consulting the Applicant's User Guide. If you still cannot find an answer to your question, contact http://www.Grants.gov via e-mail at support@grants.gov or telephone at 1.800.518.4726. The hours of operation for http://www.Grants.gov are Monday-Friday, 7 a.m. to 9 p.m. Eastern Time (except for federal holidays). Applicants also may submit completed applications by e-mail to Kerstin Millius, Program Analyst, at kmillius@eda.doc.gov. The preferred file format for electronic attachments when submitting by either electronic submission method is portable document format (PDF); however, EDA will accept electronic files in Microsoft Word, WordPerfect, or Microsoft Excel formats. For a copy of the FFO announcement for this request for applications, please see the Web site listed below under “Electronic Access.”

FOR FURTHER INFORMATION: For additional information or for a paper copy of the FFO announcement, please contact Kerstin Millius, Program Analyst, via e-mail at kmillius@eda.doc.gov (preferred) or by telephone at (202) 482-3280.

EDA's Internet Web site at http://www.eda.gov also contains additional information on EDA and its programs, including the NTA Program.

SUPPLEMENTARY INFORMATION: On October 31, 2008, EDA published in the Federal Register (73 FR 64909) the original notice and request for applications regarding the regional innovation systems research project competition under FY 2009 NTA Program funding. The original deadline for receipt of applications was November 17, 2008, at 5 p.m. Eastern Time. Upon review of the original closing date, EDA realized that it allowed a relatively short window of time for applicants to submit a complete application. To ensure that applicants have ample time to submit applications, EDA is extending the deadline under this competitive solicitation. The new deadline for receipt of electronic and paper applications is December 1, 2008, at 5 p.m. Eastern Time. All applications that are submitted by December 1, 2008, at 5 p.m. Eastern Time will be considered timely. All other information and requirements for the regional innovation systems research project competition under FY 2009 NTA Program funding remain as stated in the October 31, 2008 Federal Register notice and request for applications (73 FR 64909).

Electronic Access: The FFO announcement for the regional innovation systems research project competition under FY 2009 NTA Program funding is available at http://www.Grants.gov. Additional information is available through EDA's Internet Web site at http://www.eda.gov.

(Catalog of Federal Domestic Assistance (CFDA) Number: 11.312, Economic Development—Research and Evaluation)

)

Dated: November 5, 2008.
Otto Barry Bird,
Chief Counsel, Economic Development Administration.

[FR Doc. E8-26705 Filed 11-7-08; 8:45 am]

BILLING CODE 3510-24-P